DEPARTMENT OF LABOR

Occupational Safety and Health Administration

[Docket No. OSHA-2011-0197]

Occupational Safety and Health State Plans; Extension of the Office of Management and Budget's (OMB) Approval of Information Collection (Paperwork) Requirements

AGENCY: Occupational Safety and Health Administration (OSHA), Labor.

ACTION: Notice; correction.

SUMMARY: The Occupational Safety and Health Administration (OSHA) published a document in the Federal Register on April 19, 2022 soliciting public comments concerning the proposal to extend the Office of Management and Budget's (OMB) approval of the information collection requirements specified in the regulation on Occupational Safety and Health State Plans. The document contained incorrect docket numbers and Secretary of Labor Order No. This notice corrects these errors.

DATES: This correction is effective May 31, 2022.

FOR FURTHER INFORMATION CONTACT: Seleda Perryman or Theda Kenney, Directorate of Standards and Guidance, OSHA, U.S. Department of Labor; telephone: (202) 693-2222.

SUPPLEMENTARY INFORMATION:

Correction

In the Federal Register of April 19, 2022 (87 FR 23268-23270), correct the Docket Number as described below.

1. On page 23269, in the first paragraph, in the fourth line, change the Docket Number to read:

[Docket No. OSHA-2011-0197]

* * * * *

2. On page 23269, in the third column, in the paragraph titled “Public Participation,” change the Docket Number to read:

[Docket No. OSHA-2011-0197]

* * * * *

3. On page 23270, in the first column, in the paragraph titled “V. Authority and Signature,” change the Secretary of Labor Order No. to read:

[8-2020 (85 FR 58393)]

* * * * *

Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on May 23, 2022.
James S. Frederick,
Deputy Assistant Secretary of Labor for Occupational Safety and Health.

[FR Doc. 2022-11541 Filed 5-27-22; 8:45 am]

BILLING CODE 4510-26-P